DEPARTMENT OF HEALTH AND HUMAN SERVICES

Substance Abuse and Mental Health Services Administration

Fiscal Year (FY) 2002 Funding Opportunities

AGENCY: Substance Abuse and Mental Health Services Administration, HHS.

ACTION: Notice of funding availability for a supplement to expand and extend the Cooperative Agreement for the National Center for Child Traumatic Stress (NCCTS).

SUMMARY: The Substance Abuse and Mental Health Services Administration (SAMHSA) Center for Mental Health Services (CMHS) announces the availability of FY 2002 funds for a grant for the following activity. This notice is not a complete description of the activity; potential applicants must obtain a copy of the Guidance for Applicants (GFA), including Part I, Supplement to Expand and Extend the Cooperative Agreement for the National Center for Child Traumatic Stress (SM 02-014), and Part II, General Policies and Procedures Applicable to all SAMHSA Applications for Discretionary Grants and Cooperative Agreements, before preparing and submitting an application.

Activity | Application deadline | Est. funds FY 2002 | Est. Number of awards | Project period
Cooperative Agreement for the National Center for Child Traumatic Stress—Supplement | July 24, 2002 | $5.3 million | 1 | 2 years.

The actual amount available for the award may vary, depending on unanticipated program requirements and the number and quality of applications received. This program is authorized under Section 582 of the Public Health Service Act. SAMHSA's policies and procedures for peer review and Advisory Council review of grant and cooperative agreement applications were published in the Federal Register (Vol. 58, No. 126) on July 2, 1993.

General Instructions: Applicants must use application form PHS 5161-1 (Rev. 7/00). The application kit contains the two-part application materials (complete programmatic guidance and instructions for preparing and submitting applications), the PHS 5161-1 which includes Standard Form 424 (Face Page), and other documentation and forms. Application kits may be obtained from: Knowledge Exchange Network (KEN), P.O. Box 42490, Washington, DC 20015, Telephone: 1-800-789-2647.

The PHS 5161-1 application form and the full text of the activity are also available electronically via SAMHSA's World Wide Web Home Page: http://www.samhsa.gov.

When requesting an application kit, the applicant must specify the particular activity for which detailed information is desired. All information necessary to apply, including where to submit applications and application deadline instructions, are included in the application kit.

Purpose: The Substance Abuse and Mental Health Services Administration (SAMHSA), Center for Mental Health Services (CMHS) announces the availability of fiscal year (FY) 2002 funds for a supplement to expand and extend the cooperative agreement to develop and implement the National Center for Child Traumatic Stress (NCCTS). The NCCTS currently coordinates the National Child Traumatic Stress Network (NCTSN) and provides leadership and focus for 5 Intervention Development and Evaluation Centers (IDE) and 12 Community Treatment and Service Centers (CTS). These funds will enable NCCTS to (1) expand its Network and collaboration support for currently funded programs and extend this support to all new National Child Traumatic Stress Initiative (NCTSI) grantees funded in FY 2002; (2) comprehensively address the understanding, evaluation, and treatment of child traumatic stress resulting from disasters and terrorism; and (3) bring the knowledge gained and lessons learned from NCTSN to the nation through the National Resource Center on Child Traumatic Stress.

Eligibility: Eligibility is limited to the University of California at Los Angeles (UCLA). UCLA (in partnership with Duke University) has operated the currently funded NCCTS in its first year. The NCCTS has proven capable and effective in carrying out activities in pursuit of the goals of the NCTSI. This success is reflected in the expansion and supplementation of funding for NCTSI for FY 2002. The government's interest in building on capacity and infrastructure already developed with Government funds is a compelling argument for continuing the NCTSI coordination activities through the UCLA-Duke NCCTS. Further, duplication of effort and substantial confusion would result if a second “National Center” were established with a primary mission of networking and collaboration building in the NCTSI. For these reasons only the currently funded NCCTS, operated by UCLA, may apply for this award.

Availability of Funds: Approximately $5.3 million will be available for FY 2002 (both direct and indirect costs). Approximately $1.8 million of the award will be available (in FY 2002 only) to address child traumatic stress resulting from disasters and terrorism. In FY 2002 and FY 2003 approximately $2.55 million will be available to expand the general operations of the NCCTS (the Network is already expected to double in size in FY 2002) and approximately $950,000 of the award is expected to be put towards the expansion of the National Resource Center. The actual level will depend on appropriated funds and the application's budget justification.

Period of Support: An award may be requested for a project period of up to 2 years.

Criteria for Review and Funding:

General Review Criteria: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds will also be an award criteria. Additional award criteria specific to the programmatic activity may be included in the application guidance materials.

Catalog of Federal Domestic Assistance Number: 93.243.

Program Contact: For questions concerning program issues, contact: Robert DeMartino, M.D., Associate Director for Program in Trauma and Terrorism, Division of Program Development, Special Populations and Projects, Center for Mental Health Services, SAMHSA, Room 17C-26, Parklawn Building, 5600 Fishers Lane, Rockville, MD 20857, (301) 443-2940, E-Mail: rdemarti@samhsa.gov.

For questions regarding grants management issues, contact: Steve Hudak, Division of Grants Management, OPS/SAMHSA, Rockwall II, 6th floor, 5600 Fishers Lane, Rockville, MD 20857, (301) 443-9666, E-Mail: shudak@samhsa.gov.

Public Health System Reporting Requirements: The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2002 activity is subject to the Public Health System Reporting Requirements.

PHS Non-use of Tobacco Policy Statement: The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372: Applications submitted in response to the FY 2002 activity listed above are subject to the intergovernmental review requirements of Executive Order 12372, as implemented through DHHS regulations at 45 CFR Part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: June 20, 2002.
Richard Kopanda,
Executive Officer, SAMHSA.

[FR Doc. 02-16296 Filed 6-26-02; 8:45 am]

BILLING CODE 4162-20-P